DEPARTMENT OF THE INTERIOR

National Park Service

[NPS-WASO-NRNHL-DTS#-31751; PPWOCRADI0, PCU00RP14.R50000]

National Register of Historic Places; Notification of Pending Nominations and Related Actions

AGENCY: National Park Service, Interior.

ACTION: Notice.

SUMMARY: The National Park Service is soliciting electronic comments on the significance of properties nominated before April 3, 2021, for listing or related actions in the National Register of Historic Places.

DATES: Comments should be submitted electronically by May 3, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before April 3, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

NEW YORK

New York County

Women's Liberation Center, 243 West 20th St., New York, SG100006509

SOUTH CAROLINA

Beaufort County

Fort Fremont Battery (Boundary Increase) (Historic Resources of St. Helena Island c. 1740-c. 1935 MPS), 181 Bay Point Rd., St. Helena Island, BC100006498

Greenville County

Poe Hardware and Supply Company, 556 Perry Ave., Greenville, SG100006507

Richland County

Beverly Apartments, 1525 Bull St., Columbia, SG100006506

VIRGINIA

Bath County

Reveille, 437 Quarry Hill Dr., Hot Springs vicinity, SG100006499

Henry County

John Redd Smith Elementary School, 40 School Dr., Collinsville, SG100006500

Norfolk Independent City

Cruser Place Historic District, Granby, Llewellyn, 39th and 38th Sts., Delaware, Pennsylvania, Maryland, and LaValette Aves., Norfolk, SG100006501

WEST VIRGINIA

Jefferson County

Spring Grove, 2497 Smith Rd., Charles Town vicinity, SG100006504

WISCONSIN

Chippewa County

West Hill Residential Historic District, Generally bounded by Coleman, Superior, Central, Governor, and Dover Sts., Chippewa Falls, SG100006503

Winnebago County

St. Mary's Catholic Church Complex, 605, 619 Merritt Ave., 442 Monroe St., Oshkosh, SG100006505

Additional documentation has been received for the following resource:

SOUTH CAROLINA

Beaufort County

Fort Fremont Battery (Additional Documentation) (Historic Resources of St. Helena Island c. 1740-c. 1935 MPS), 181 Bay Point Rd., St. Helena Island, AD88001821

Nomination submitted by Federal Preservation Officer:

The State Historic Preservation Officer reviewed the following nomination and responded to the Federal Preservation Officer within 45 days of receipt of the nomination and supports listing the properties in the National Register of Historic Places.

NEW JERSEY

Ocean County

Old Coast Guard Station Manasquan Inlet, (U.S. Government Lifesaving Stations MPS), 40 Inlet Dr., Point Pleasant Beach, MP100006508

Authority: Section 60.13 of 36 CFR part 60.

Dated: April 7, 2021.
Sherry A. Frear,
Chief, National Register of Historic Places/National Historic Landmarks Program.

[FR Doc. 2021-07757 Filed 4-15-21; 8:45 am]

BILLING CODE 4312-52-P